DEPARTMENT OF ENERGY

Federal Energy Regulatory Commission

Combined Notice of Filings #1

March 13, 2009.

Take notice that the Commission received the following electric rate filings:

Docket Numbers: ER03-752-003.

Applicants: Solaro Energy Marketing Corporation.

Description: Solaro Energy Marketing Corp submits supplement to Substitute First Revised Sheet 1 to FERC Electric Tariff, Original 1, in compliance with Order 697 under ER03-752.

Filed Date: 03/11/2009.

Accession Number: 20090312-0350.

Comment Date: 5 p.m. Eastern Time on Wednesday, April 1, 2009.

Docket Numbers: ER04-805-009.

Applicants: Wabash Valley Power Association, Inc.

Description: Wabash Valley Power Association, Inc submits a supplemental filing to their 12/29/09 Updated Market Power Analysis under ER04-805.

Filed Date: 03/11/2009.

Accession Number: 20090312-0352.

Comment Date: 5 p.m. Eastern Time on Wednesday, April 1, 2009.

Docket Numbers: ER06-1399-006.

Applicants: Sunbury Generation LP.

Description: Sunbury Generation, LP submits an amendment to the June 2008 Compliance Filing under ER06-1399.

Filed Date: 03/11/2009.

Accession Number: 20090312-0351.

Comment Date: 5 p.m. Eastern Time on Wednesday, April 1, 2009.

Docket Numbers: ER09-405-001.

Applicants: New York Independent System Operator, Inc.

Description: New York Independent System Operator, Inc.'s Report on Waiver Request under ER09-405.

Filed Date: 03/11/2009.

Accession Number: 20090311-5229.

Comment Date: 5 p.m. Eastern Time on Wednesday, April 1, 2009.

Docket Numbers: ER09-674-001.

Applicants: ZZ Corporation.

Description: ZZ Corporation submits a notice of cancellation of its FERC Electric Tariff, Original Volume 1 under ER09-674.

Filed Date: 03/11/2009.

Accession Number: 20090312-0281.

Comment Date: 5 p.m. Eastern Time on Monday, March 23, 2009.

Docket Numbers: ER09-827-000.

Applicants: Midwest Independent Transmission System Operator, Inc.

Description: Midwest Independent Transmission System Operator, Inc submits an executed amended and restated large generator interconnection agreement with Green Lake Wind, LLC under ER09-827.

Filed Date: 03/10/2009.

Accession Number: 20090311-0056.

Comment Date: 5 p.m. Eastern Time on Tuesday, March 31, 2009.

Docket Numbers: ER09-828-000.

Applicants: Public Service Electric & Gas Company.

Description: Public Service Electric and Gas Company et al. request for waivers of affiliate standards and authorizations for sales, as well as a CD containing a Notice of Filing under ER09-828.

Filed Date: 03/10/2009.

Accession Number: 20090311-0057.

Comment Date: 5 p.m. Eastern Time on Tuesday, March 31, 2009.

Docket Numbers: ER09-829-000.

Applicants: Southern California Edison Company.

Description: Southern California Edison Company submits revised rate sheets to the AES Huntington Beach Interconnection Service and Facilities Agreement between SCE and AES Huntington Beach LLC under ER09-829.

Filed Date: 03/10/2009.

Accession Number: 20090311-0064.

Comment Date: 5 p.m. Eastern Time on Tuesday, March 31, 2009.

Docket Numbers: ER09-830-000.

Applicants: Consolidated Edison Company of New York, Inc.

Description: Consolidated Edison Company of New York, Inc submits First Revised Sheet 52 et al. to FERC Electric Tariff, First Revised Rate Schedule 96: Pasny Delivery Service under ER09-830.

Filed Date: 03/10/2009.

Accession Number: 20090311-0063.

Comment Date: 5 p.m. Eastern Time on Tuesday, March 31, 2009.

Docket Numbers: ER09-831-000.

Applicants: New York Independent System Operator, Inc.

Description: New York Independent System Operator, Inc submits an executed standard large generator interconnection agreement with Long Island Lighting Company, d/b/a LIPA under ER09-831.

Filed Date: 03/10/2009.

Accession Number: 20090311-0055.

Comment Date: 5 p.m. Eastern Time on Tuesday, March 31, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-6081 Filed 3-19-09; 8:45 am]

BILLING CODE 6717-01-P